DEPARTMENT OF ENERGY

Federal Energy Regulatory Commission

[Docket No. EL00-55-000, et al.]

Sun River Electric Cooperative, Inc., et al.; Electric Rate and Corporate Regulation Filings

March 27, 2000.

Take notice that the following filings have been made with the Commission:

1. Sun River Electric Cooperative, Inc.

[Docket No. EL00-55-000]

Take notice that on March 20, 2000, Sun River Electric Cooperative, Inc. (SREC) filed a Request for Waiver of the requirements of Order No. 888 and Order No. 889.

Comment date: April 19, 2000, in accordance with Standard Paragraph E at the end of this notice.

2. San Diego Gas & Electric Company v. Public Service Company of New Mexico

[Docket No. EL00-56-000]

Take notice that on March 23, 2000, San Diego Gas & Electric Company (SDG&E) tendered for filing a complaint with the Commission against Public Service Company of New Mexico (PNM). In the complaint, SDG&E states that the demand rate charged SDG&E by PNM under a long-term 100-megawatt system power sale is excessive, unjust, unreasonable, unduly discriminatory, and contrary to the public interest. SDG&E asks the Commission to initiate a proceeding under Section 206(b) of the Federal Power Act to investigate the rate and establish a refund effective date of May 22, 2000. SDG&E asks that the complaint be consolidated for hearing and decision with the proceeding in Docket Nos. EL97-54-002 and EL99-21-000.

Comment date: April 12, 2000, in accordance with Standard Paragraph E at the end of this notice. Answers to the complaint shall also be due on or before April 12, 2000.

3. Entergy Services, Inc.

[Docket No. ER00-1933-000]

Take notice that on March 22, 2000, Entergy Services, Inc. (Entergy Services), on behalf of Entergy Arkansas, Inc., Entergy Gulf States, Inc., Entergy Louisiana, Inc., Entergy Mississippi, Inc., and Entergy New Orleans, Inc. (collectively, the Entergy Operating Companies), tendered for filing a new Attachment M to its Open Access Transmission Tariff, designated as FERC Electric Tariff Original Volume No. 3, addressing transmission business practices related to source and sink information required for reserving and scheduling point-to-point transmission service.

Comment date: April 12, 2000, in accordance with Standard Paragraph E at the end of this notice.

4. Florida Power Corporation

[Docket No. ER00-1934-000]

Take notice that on March 22, 2000, Florida Power Corporation (Florida Power) tendered for filing a service agreement providing for non-firm point-to-point transmission service and a service agreement providing for short term firm point-to-point transmission service by Florida Power to TXU Energy Trading Company (TXU) pursuant to its open access transmission tariff.

Florida Power requests that the Commission waive its notice of filing requirements and allow the agreements to become effective on March 15, 2000.

Comment date: April 12, 2000, in accordance with Standard Paragraph E at the end of this notice.

5. Entergy Services, Inc.

[Docket No. ER00-1935-000]

Take notice that on March 22, 2000, Entergy Services, Inc., on behalf of Entergy Arkansas, Inc. (Entergy Arkansas), tendered for filing a Notice of Cancellation of the Electric Peaking Power Agreement between City of Campbell, Missouri and Entergy Arkansas.

Comment date: April 12, 2000, in accordance with Standard Paragraph E at the end of this notice.

6. Entergy Services, Inc.

[Docket No. ER00-1936-000]

Take notice that on March 22, 2000, Entergy Services, Inc. (Entergy), on behalf of Entergy Arkansas, Inc. (Entergy Arkansas), tendered for filing a Notice of Cancellation of the Electric Peaking Power Agreement between City of Osceola, Arkansas and Entergy Arkansas.

Comment date: April 12, 2000, in accordance with Standard Paragraph E at the end of this notice.

7. Southwest Power Pool, Inc.

[Docket No. ER00-1937-000]

Take notice that on March 22, 2000, Southwest Power Pool, Inc. (SPP) tendered for filing executed service agreements for Firm Point-to-Point Transmission Service, Non-Firm Point-to-Point Transmission and Loss Compensation Service with Eastex Cogeneration Limited Partnership, El Paso Merchant Energy, L.P., FPL Energy Power Marketing, Inc., and Sunflower Electric Power Corp., as well as executed service agreements for Non-Firm Point-to-Point Transmission and Loss Compensation Service with Conectiv Energy Supply, Inc.

SPP requests an effective date of March 8, 2000 for the agreements with Eastex, March 13, 2000 for the agreements with El Paso, February 25, 2000 for the agreements with FPL, March 13, 2000 for the agreements with Sunflower, and March 14, 2000 for the agreements with Conectiv.

Copies of this filing were served upon all signatories.

Comment date: April 12, 2000, in accordance with Standard Paragraph E at the end of this notice.

8. Cinergy Services, Inc.

[Docket No. ER00-1938-000]

Take notice that on March 22, 2000, Cinergy Services, Inc. submitted an Interconnection Agreement entered into by and between Cinergy Services, Inc. (Cinergy) and Duke Energy Madison, LLC (Duke Energy Madison) and a Facilities Construction Agreement by and between Cinergy and Duke Energy Madison, both of which are dated February 28, 2000.

The Interconnection Agreement between the parties provides for the interconnection of a generating station with the transmission system of The Cincinnati Gas & Electric Company (CG&E), a Cinergy utility operating company, and further defines the continuing responsibilities and obligations of the parties with respect thereto. The Facilities Construction Agreement between the parties provides for the construction and installation of the interconnection facilities and the additions, modifications and upgrades to the existing transmission facilities of CG&E.

Cinergy requests an effective date of February 28, 2000 for the Interconnection Agreement and the Facilities Construction Agreement.

Cinergy states that it has served a copy of its filing upon the Public Utility Commission of Ohio and Duke Energy Madison.

Comment date: April 12, 2000, in accordance with Standard Paragraph E at the end of this notice.

9. Cinergy Services, Inc.

[Docket No. ER00-1939-000]

Take notice that on March 22, 2000, Cinergy Services, Inc. submitted an Interconnection Agreement entered into by and between Cinergy Services, Inc. (Cinergy) and Duke Energy Vermillion, LLC (“Duke Energy Vermillion”), and a Facilities Construction Agreement by and between Cinergy and Duke Energy Vermillion, both of which are dated February 28, 2000.

The Interconnection Agreement between the parties provides for the interconnection of a generating station with the transmission system of PSI Energy, Inc. (PSI Energy), a Cinergy utility operating company, and further defines the continuing responsibilities and obligations of the parties with respect thereto. The Facilities Construction Agreement between the parties provides for the construction and installation of the interconnection facilities and the additions, modifications and upgrades to the existing transmission facilities of PSI Energy.

Cinergy requests an effective date of February 28, 2000 for both the Interconnection Agreement and the Facilities Construction Agreement.

Cinergy states that it has served a copy of its filing upon the Indiana Utility Regulatory Commission and Duke Energy Vermillion.

Comment date: April 12, 2000, in accordance with Standard Paragraph E at the end of this notice.

10. Duquesne Light Company

[Docket No. ER00-1941-000]

Take notice that on March 22, 2000, Duquesne Light Company (DLC) filed a Service Agreement for Retail Network Integration Transmission Service and a Network Operating Agreement for Retail Network Integration Transmission Service dated March 21, 2000, Niagra Mohawk Energy Marketing, Inc. under DLC's Open Access Transmission Tariff (Tariff). The Service Agreement and Network Operating Agreement adds Niagra Mohawk Energy Marketing, Inc. as a customer under the Tariff.

DLC requests an effective date of March 21, 2000 for the Service Agreement.

Comment date: April 12, 2000, in accordance with Standard Paragraph E at the end of this notice.

11. Northern Maine Independent System Administrator, Inc.

[Docket No. ER00-1942-000]

Take notice that on March 22, 2000, Northern Maine Independent System Administrator, Inc. (NMISA) tendered for filing seven service agreements under the Northern Maine Independent System Administrator Tariff (Northern Maine ISA Tariff) for the following Market Participants: Maine Public Service Company, Inc., Houlton Water Company, Energy Atlantic LLC, Eastern Maine Electric Cooperative, Inc., WPS Energy Services, Inc., FPL Energy Power Marketing, Inc. and Alternative Energy. NMISA has determined that these applicants are qualified to become Market Participants under the Northern Maine ISA Tariff.

NMISA requests an effective date for implementation of these service agreements of March 1, 2000, to coincide with the date on which NMISA will commence commercial operation and retail access will begin in Northern Maine.

Comment date: April 12, 2000, in accordance with Standard Paragraph E at the end of this notice.

12. Southwestern Electric Power Company

[Docket No. ER00-1943-000]

Take notice that on March 22, 2000, Southwestern Electric Power Company (SWEPCO) tendered for filing an estimated return on common equity (Estimated ROE) to be used in establishing estimated formula rates for wholesale service in Contract Year 2000 to Northeast Texas Electric Cooperative, Inc., the City of Bentonville, Arkansas, Rayburn Country Electric Cooperative, Inc., Cajun Electric Power Cooperative, Inc., Tex-La Electric Cooperative of Texas, Inc., the City of Hope, Arkansas, and East Texas Electric Cooperative, Inc. SWEPCO provides service to these Customers under contracts which provide for periodic changes in rates and charges determined in accordance with cost-of-service formulas, including a formulaic determination of the return on common equity.

Copies of the filing were served upon the affected wholesale Customers, the Public Utility Commission of Texas, the Louisiana Public Service Commission and the Arkansas Public Service Commission.

Comment date: April 12, 2000, in accordance with Standard Paragraph E at the end of this notice.

13. LSP Energy Limited Partnership

[Docket No. ER00-1944-000]

Take notice that on March 22, 2000, LSP Energy Limited Partnership (LSP Energy) tendered for filing under Section 205 of the Federal Power Act a Power Purchase Agreement dated February 25, 2000 between LSP Energy and the Tennessee Valley Authority.

Comment date: April 12, 2000, in accordance with Standard Paragraph E at the end of this notice.

14. FirstEnergy System

[Docket No. ER00-1945-000]

Take notice that on March 22, 2000, FirstEnergy System filed a Service Agreement to provide Firm Point-to-Point Transmission Service for Conectiv Energy Supply, Inc., the Transmission Customer. Services are being provided under the FirstEnergy System Open Access Transmission Tariff submitted for filing by the Federal Energy Regulatory Commission in Docket No. ER97-412-000.

The proposed effective date for this Service Agreement is March 20, 2000.

Comment date: April 12, 2000, in accordance with Standard Paragraph E at the end of this notice.

15. Duquesne Light Company

[Docket No. ER00-1946-000]

Take notice that on March 22, 2000, Duquesne Light Company (Duquesne) tendered for filing under Duquesne's pending Market-Based Rate Tariff, (Docket No. ER98-4159-000) executed Service Agreement at Market-Based Rates with Allegheny Energy Supply Company, LLC (Customer).

Duquesne has requested the Commission waive its notice requirements to allow the Service Agreement to become effective as of March 21, 2000.

Copies of this filing were served upon Customer.

Comment date: April 12, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-8058 Filed 3-31-00; 8:45 am]

BILLING CODE 6717-01-P